DEPARTMENT OF HOUSING AND URBAN DEVELOPMENT

[Docket No. FR-5907-N-08]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland TX 78236-9853; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave SW., Washington, DC 20585 (202) 287-1503; GSA: Mr. Flavio Peres, General Services Administration, Office of Real Property Utilization and Disposal, 1800 F Street NW., Room 7040 Washington, DC 20405, (202) 501-0084; NAVY: Mr. Steve Matteo, Department of the Navy, Asset Management; Division, Naval Facilities Engineering Command, Washington Navy Yard, 1330 Patterson Ave. SW., Suite 1000, Washington, DC 20374; (202) 685-9426; (These are not toll-free numbers).

Dated: February 11, 2016.
Brian P. Fitzmaurice,
Director, Division of Community Assistance, Office of Special Needs Assistance Programs.

Title V, Federal Surplus Property Program—Federal Register Report for 02/19/2016

Suitable/Available Properties

Building

Minnesota

CFS Dwelling #5

Cutfoot Sioux Admin. Site

Itasca, MN

Landholding Agency: Agriculture

Property Number: 15201610016

Status: Unutilized

Comments: off-site removal only; 1,200 sq. ft.; no future agency need; removal difficult due to size/type; poor conditions; LBPs; contact Agriculture for more information.

CFS Dwelling #3

Cutfoot Sioux Admin. Site

Itasca, MN

Landholding Agency: Agriculture

Property Number: 15201610017

Status: Unutilized

Comments: off-site removal; 800 sq. ft.; no future agency need; residential; poor conditions; LBPs; contact Agriculture for more information.

Pennsylvania

Two Story Brick Residential

Home (AL6-12050)

1258 River Rd.

Freeport, PA 16229

Landholding Agency: COE

Property Number: 31201610006

Status: Underutilized

Comments: 1,768 sq. ft.; 12+ mons. vacant; very poor conditions; contact COE for more information.

Washington

Glacier WC Bunkhouse

(1052.004841) 07661 00

1094 Mt. Baker Hwy

Glacier, WA 98244

Landholding Agency: Agriculture

Property Number: 15201610010

Status: Unutilized

Comments: 1,660 sq. ft.; bunkhouse; very poor conditions; contact Agriculture for more information.

Darrington RS Evidence Locker (14655010357)

07661 03; 1405 Emens Ave. N

Darrington, WA 98241

Landholding Agency: Agriculture

Property Number: 15201610011

Status: Unutilized

Comments: 256 sq. ft.; storage; poor conditions; contact Agriculture for more information.

Darrington Tree Cooler Bldg.

(10460.004841) 07661 02

1405 Emens Ave. N

Darrington, WA 98241

Landholding Agency: Agriculture

Property Number: 15201610012

Status: Excess

Comments: 1,600 sq. ft.; storage; contact Agriculture for more information.

Darrington RS Boneyard Log

Bldg. (1627.004841) 07661 03

1405 Emens Ave. N

Darrington, WA 98241

Landholding Agency: Agriculture

Property Number: 15201610013

Status: Unutilized

Comments: 2,160 sq. ft.; storage; poor conditions; contact Agriculture for more information.

Darrington RS Log Pole Storage (1033.004841) 07661 03

1405 Emens Ave. N

Darrington, WA 98241

Landholding Agency: Agriculture

Property Number: 15201610014

Status: Unutilized

Comments: 1,750 sq. ft.; storage; poor conditions; contact Agriculture for more information.

Darrington RS Former Pump House (1628. 004841) 07661 03

1405 Emens Ave. N

Darrington, WA 98241

Landholding Agency: Agriculture

Property Number: 15201610015

Status: Unutilized

Comments: 400 sq. ft.; storage; poor conditions; contact Agriculture for more information.

Land

Florida

Former Radio Communication Receiver Site

SW Kanner Hwy

Martin Co., FL 34956

Landholding Agency: GSA

Property Number: 54201610004

Status: Surplus

GSA Number: 4-U-FL-1321

Directions:

Landholding Agency: FAA; Disposal Agency: GSA

Comments: 1.06 acres; contact GSA for more information.

Oklahoma

Caney Creek

33.925152-96.690155

Unincorporated, OK 73152

Landholding Agency: GSA

Property Number: 54201610005

Status: Excess

GSA Number: 7-G-OK-0852-AA

Comments: 9.82 acres; endangered species in area not specifically on land; contact GSA for more information.

Unsuitable Properties

Building

Colorado

8 Buildings

Ptarmigan Guard Station

Granby, CO

Landholding Agency: Agriculture

Property Number: 15201610007

Status: Excess

Directions: 3841 (B2901.001481); 3842 (B2917.001481); 3843 (B2920.001481); 3844 (B2921.001481); 3845 (B2915.001481); 3846 (B2925.001481); 3847 (B2923.001481); 3848 (B2910.001481)

Reasons: Extensive deterioration

Comments: documented deficiencies: structure integrity unsound; clear threat to physical safety.

Arapaho Bay Dwelling #1

Arapaho Bay Campground

Granby, CO

Landholding Agency: Agriculture

Property Number: 15201610008

Status: Excess

Reasons: Extensive deterioration

Comments: documented deficiencies: structure integrity unsound; rodent infestation; clear threat to physical safety.

5 Buildings

Shadow Mountain Village

Granby, CO

Landholding Agency: Agriculture

Property Number: 15201610009

Status: Excess

Directions: 1203 (B1369.001481); 1220 (B1400.001481); 1221 (B1401.001481); 1218 (B1420.001481); 1225 (B1403.001481)

Reasons: Extensive deterioration

Comments: documented deficiencies: structure integrity unsound; clear threat to physical safety.

Georgia

Savannah Hilton Head International Airport, Fac. 1926 XDQU 1401 Robert B. Miller Jr. Dr. Garden City, GA 31408

Landholding Agency: Air Force

Property Number: 18201610002

Status: Unutilized

Reasons: Secured Area

Comments: public access denied and no alternative method to gain access without compromising national security.

Illinois

Argonne National Lab

9700 South Cass Ave.

Argonne, IL

Landholding Agency: Energy

Property Number: 41201610003

Status: Excess

Directions: OSF 603; Bldg. 604

Reasons: Secured Area

Comments: public access denied and no alternative method to gain access without compromising national security.

Maine

494

99 Glen Ave. Ste. 494

Bangor, ME 04401

Landholding Agency: Air Force

Property Number: 18201610003

Status: Excess

Reasons: Secured Area

Comments: public access denied and no alternative method to gain access without compromising national security.

Bangor IAP (ANG) FKNN

109 Pesch Circle, Ste. 418

Bangor, ME 04401

Landholding Agency: Air Force

Property Number: 18201610004

Status: Underutilized

Reasons: Secured Area

Comments: public access denied and no alternative method to gain access without compromising national security.

Michigan

Alpena Crtc.; Alpena Co.

Reg. Apt.—Installation TDVG

5884 A St.; Bldg. 315

Alpena, MI 49707

Landholding Agency: Air Force

Property Number: 18201610001

Status: Unutilized

Reasons: Secured Area

Comments: public access denied and no alternative method to gain access without compromising national security.

North Carolina

Tower Support Facility

West of N.C. Hwy 17

Holly Ridge, NC 28445

Landholding Agency: Navy

Property Number: 77201610019

Status: Excess

Reasons: Secured Area

Comments: public access denied and no alternative method to gain access without compromising national security.

200′ Communication Tower

West of N.C. Hwy 17

Holly Ridge, NC 28445

Landholding Agency: Navy

Property Number: 77201610020

Status: Excess

Reasons: Secured Area

Comments: public access denied and no alternative method to gain access without compromising national security.

Pennsylvania

Wooden Garage

(AL6-12055)

1258 River Rd.

Freeport, PA 16229

Landholding Agency: COE

Property Number: 31201610007

Status: Underutilized

Reasons: Extensive deterioration

Comments: documented deficiencies: structurally unsound; clear threat to physical safety.

Land

Maryland

Building 1646

Naval Air Station

Patuxent River, MD 20670

Landholding Agency: Navy

Property Number: 77201610021

Status: Unutilized

Reasons: Secured Area

Comments: public access denied and no alternative method to gain access without compromising national security.

[FR Doc. 2016-03273 Filed 2-18-16; 8:45 am]

BILLING CODE 4210-67-P